DEPARTMENT OF ENERGY

Office of Energy Efficiency and Renewable Energy

[Docket Number EERE-2015-BT-BLDG-0012]

Request for Information (RFI) for High-Performance Energy Efficiency Measures in Separate Spaces

AGENCY: Office of Energy Efficiency and Renewable Energy, Department of Energy.

ACTION: Request for Information (RFI).

SUMMARY: As part of the requirements of Section 103 of the Energy Efficiency Improvement Act of 2015, the U.S. Department of Energy (DOE) is requesting public comment regarding effective methods, measures, and practices for the design and construction of separate building spaces (also known as tenant spaces) to create high-performance, energy efficient spaces. In preparation for completing a study required by the Energy Efficiency Improvement Act of 2015, DOE is requesting information on the feasibility of significantly improving energy efficiency in commercial buildings through the design and construction, by owners and tenants, of separate spaces with high-performance energy efficiency measures; and encouraging owners and tenants to implement high-performance energy efficiency measures in separate spaces. The term `high-performance energy efficiency measure' means a technology, product, or practice that will result in substantial operational cost savings by reducing energy consumption and utility costs while maintaining indoor air quality, appropriate light levels and occupant comfort. DOE will use input from this Federal Register notice to inform the study, to be completed by April 30, 2016.

DATES: Written comments and information are requested on or before September 30, 2015.

ADDRESSES: The content that we are requesting your feedback on is located at http://www.regulations.gov/#!docketDetail;D=EERE-2015-BT-BLDG-0012. Interested persons are encouraged to submit comments electronically. Interested persons may submit comments, identified by docket number EERE-2015-BT-BLDG-0012. Your response should be limited to 8 pages.

Email: SeparateSpaces2015BLDG0012@ee.doe.gov. Include EERE-2015-BT-BLDG-0012 in the subject line of the message. Submit electronic comments in Microsoft Word or Microsoft Excel, and avoid the use of special characters or any form of encryption.

Or Mail to: U.S. Department of Energy, 1000 Independence Ave. SW., Mailstop EE-5B, Washington, DC 20585.

Instructions: All submissions received must include the agency name and docket number.

Docket: The docket is available for review at www.regulations.gov, including Federal Register notices, comments, and other supporting documents/materials (search EERE-2015-BT-BLDG-0012). All documents in the docket are listed in the www.regulations.gov index.

A link to the docket Web page can be found at: http://www.regulations.gov/#!docketDetail;D=EERE-2015-BT-BLDG-0012. This Web page contains a link to the docket for this notice on the www.regulations.gov site. The www.regulations.gov Web page contains instructions on how to access all documents, including public comments, in the docket. See section II, Public Participation for further information on submitting comments.

FOR FURTHER INFORMATION CONTACT: Direct requests for additional information may be sent to Mr. Jason Hartke, U.S. Department of Energy, Office of Energy Efficiency and Renewable Energy, Building Technologies Program, EE-5B, 1000 Independence Avenue SW., Washington, DC 20585-0121. Telephone: 202-586-9632.

SUPPLEMENTARY INFORMATION:

I. Discussion

DOE is seeking public input on questions that will help inform a study on the feasibility of significantly improving energy efficiency in commercial buildings through the design and construction, by owners and tenants, of separate tenant spaces using high-performance energy efficiency measures; and encouraging owners and tenants to implement high-performance energy efficiency measures in separate spaces.

This request seeks comments related to the following: (1) High-performance energy efficiency measures that should be considered as part of the initial design and construction of separate spaces; (2) actual energy savings measured as a result of implementing energy efficiency measures in tenant space design and construction; (3) processes that owners, tenants, architects, engineers and other building experts may replicate when designing and constructing separate spaces with high-performance energy efficiency measures, and the cost-effectiveness and scalability of such processes; (4) policies and best practices to achieve reductions in energy intensities for lighting, plug loads, heating, cooling, cooking, laundry, and other systems that support the commercial building tenant; (5) financial metrics like return on investment and payback analyses of the incremental cost and projected energy savings of the proposed set of high-performance energy efficiency measures, including consideration of available incentives; (6) models and simulation methods that predict the quantity of energy used by separate spaces with high-performance energy efficiency measures and that compare predicted quantity to the quantity of energy used by separate spaces without high-performance energy efficiency measures but that would otherwise comply with applicable code requirements; (7) measurement and verification platforms and methods that allow measurement of the impact of high-performance energy efficiency measures installed in separate spaces, including metering configurations and data access; (8) best practices and existing systems or programs that encourage an integrated approach to designing and constructing separate spaces to perform at optimum energy efficiency in conjunction with the central systems of a commercial building; (9) any impact on employment and job creation resulting from the design and construction of separate spaces using high-performance energy efficiency measures; (10) case studies or other analyses or studies that report the economic and energy savings returns in the design and construction of separate spaces with high-performance energy efficiency measures; (11) best practices for encouraging owners and tenants to implement high-performance energy efficiency measures in separate spaces; and; (12) prevalence and configuration of energy sub metering nationwide at the level of individual tenant spaces in commercial buildings, including information about whether critical consumption activities such as HVAC, data storage, or lighting are separately sub metered; (13) identification of data on key determinants of energy performance in tenant spaces that could be used to guide the development of wider national data collection and most feasible approaches for collecting such data; and (14) availability of hourly data and information on specific energy management programs in place in tenant spaces.

II. Public Participation

All interested parties are invited to submit in writing by the date specified in the DATES section of this RFI, comments and information on all elements listed in the discussion section above. Comments may be submitted on or before September 30, 2015. Please submit comments only and cite docket number EERE-2015-BT-BLDG-0012, in all correspondence related to this case. All comments received will be posted without change to http://www.regulations.gov, including any personal and/or business confidential information provided. Visit http://www.doe.gov/cbi for more information.

Please limit comments to no more than a total of 8 pages.

Issued in Washington, DC, July 27, 2015.
Kathleen B. Hogan,
Deputy Assistant Secretary for Energy Efficiency, Energy Efficiency and Renewable Energy.

[FR Doc. 2015-18868 Filed 7-30-15; 8:45 am]

BILLING CODE 6450-01-P